FEDERAL COMMUNICATIONS COMMISSION

Notice of Public Information Collection(s) Being Reviewed by the Federal Communications Commission, Comments Requested

March 23, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information less it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 1, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION:

OMB Control Number: 3060-0754.

Title: Children's Television Programming Report, FCC Form 398.

Form Number: FCC 398.

Type of Review: Extension of a currently approved collection.

Respondents: Business or other for-profit entities.

Number of Respondents: 1,950 respondents; 7,800 responses.

Estimated Hour per Response: 6 hours per quarter.

Frequency of Response: Recordkeeping; quarterly reporting requirement.

Total Annual Burden: 46,800 hours.

Total Annual Cost: $996,000.

Privacy Impact Assessment: No.

Needs and Uses: Licenses use FCC Form 398 to identify the individual station and children's educational and informational programs, which the station broadcasts on both the regularly scheduled and preempted core programming, to meet the station's obligation under the Children's Television Act of 1990. This standardized form provides a consistent format for reporting by all licensees, which facilitates efforts by the public and the FCC to monitor compliance with the Children's Television Act.

OMB Control Number: 3060-0980.

Title: Implementation of the Satellite Home Viewer Improvement Act of 1999: Broadcast Signal Carriage Issues, Retransmission Consent Issues, CS Docket Nos. 00-96 and 99-363.

Form Number: N/A.

Type of Review: Extension of currently approved collection.

Respondents: Business and other for-profit entities.

Number of Respondents: 900.

Estimated Hours per Response: 1 to 5 hours.

Frequency of Response: On occasion reporting requirement.

Total Annual Burden: 2,700.

Total Annual Costs: $90,000.

Privacy Impact Assessment: No.

Needs and Uses: Congress directed the Commission to adopt regulations that apply broadcast signal carriage requirements to satellite carriers pursuant to the changes outlined in the Satellite Home Viewer Improvement Act of 1999. The availability of such information not only informs the public of the method of broadcast signal carriage, but also local broadcast stations the data necessary to assert their carriage rights within their local markets.

OMB Control Number: 3060-1050.

Title: New Allocation for Amateur Radio Service, ET Docket No. 02-230.

Type of Review: Extension of a currently approved collection.

Form Number: N/A.

Respondents: Business or other for-profit entities; not-for-profit institutions.

Number of Respondents: 5,000.

Estimated Time per Response: 20 mins. (0.3 hours).

Frequency of Response: Recordkeeping; on occasion reporting requirements; third party disclosure.

Total Annual Burden: 150 hours.

Total Annual Costs: None.

Privacy Impact Assessment: No.

Needs and Uses: On April 29, 2003, the Office of Engineering and Technology adopted a Report and Order, Amendment of Parts 2 and 97 of the Commission's Rules to Create a Low Frequency Allocation for the Amateur Radio Service, ET Docket No. 02-98, FCC 03-105. An amateur operator holding a General, Advanced or Amateur Extra Class license may only operate on the channels 5332 kHz, 5348 kHz, 5368 kHz, 5373 kHz, and 5404 kHz. Under the following limitations: (1) A maximum effective radiated power (e.r.p.) of 50 W; and (2) single sideband suppressed carrier modulation (emission designator 2K8J3E), upper sideband voice transmissions only. For the purpose of computing e.r.p. the transmitter PEP will be multiplied with the antenna gain relative to a dipole or the equivalent calculation in decibels. Licensees using other antennas must maintain in their station records either manufacturer data on the antenna gain or calculations of the antenna gain.

Federal Communications Commission.
Marlene H. Dortch,
Secretary.

[FR Doc. 04-7378 Filed 3-31-04; 8:45 am]

BILLING CODE 6712-01-M